DEPARTMENT OF TRANSPORTATION

Federal Transit Administration

2016 Mobility on Demand (MOD) Sandbox Program

AGENCY: Federal Transit Administration (FTA), DOT.

ACTION: Notice of selections of Fiscal Year 2016 MOD Sandbox Program.

SUMMARY: The U.S. Department of Transportation's (DOT) Federal Transit Administration (FTA) announced the selection of 11 projects on October 13, 2016, (see Table 1) to receive $7,931,080 in Fiscal Year (FY) 2014 and 2016 funding in support of FTA's Mobility on Demand (MOD) Sandbox Program.

On May 3, 2016, FTA published a Notice of Funding Opportunity (NOFO) (81 FR 26621) announcing the availability of $8 Million for the 2016 MOD Sandbox Program. The MOD Sandbox Program is a new FTA research program to demonstrate and evaluate innovative approaches to integrating emerging mobility solutions within a public transportation framework. The program seeks to support transit agencies and communities as they navigate the dynamic, evolving landscape of personal mobility and integrated multimodal transportation networks. FTA is interested in conducting research on new service options in combination with available technologies that enable a traveler-centric approach to transportation, and provide better mobility options for everyone. FTA's MOD Sandbox Program provides a platform where integrated MOD concepts and solutions—supported through local partnerships—can be demonstrated in real-world settings.

FOR FURTHER INFORMATION CONTACT: The FTA Office of Research, Demonstration and Innovation will contact successful applicants regarding the next steps in applying for funds (see Table 1). Unsuccessful applicants may contact Christina Gikakis, Office of Research, Demonstration and Innovation at email address modsandbox@dot.gov to arrange a proposal debriefing within 30 days of this announcement.

SUPPLEMENTARY INFORMATION: In response to the MOD Sandbox NOFO, FTA received 78 eligible proposals requesting $57,146,181 in Federal funds. Project proposals were evaluated based on each applicant's responsiveness to the program evaluation criteria published in the NOFO. FTA is funding 11 MOD Sandbox projects, as shown in Table 1, for a total of $7,931,080.

Grantees selected for the MOD Sandbox Program should work with the FTA Office of Research, Demonstration and Innovation (TRI) to complete the cooperative agreement applications in FTA's electronic grants management system, Transit Award Management System (TrAMS).

Cooperative agreements must only include eligible activities applied for in the original project application. Project partner organizations identified as team members or sub-recipients in the original project application must be identified and included in the grant application in the capacity as originally proposed. Funds must be used consistent with the competitive proposal and for the eligible purposes established in the NOFO and described in the FTA Circular 6100.1E. Grantees are reminded that program requirements such as cost sharing or local match can be found in the NOFO and that applicants must provide the cost-share and source consistent with the selected proposal. A discretionary research project identification number has been assigned to each project, as shown in Table 1, for tracking purposes and must be used in the TrAMS application.

Projects are eligible for pre-award authority with an effective date no earlier than October 13, 2016. Grantees seeking pre-award authority must request and receive approval from the TRI Associate Administrator through a Letter of No Prejudice. FTA may grant pre-award authority to any project under this program so long as all required conditions for pre-award authority have been met and the activities undertaken in advance of federal funding are contained in the approved project plan or statement of work. Post-award reporting requirements include submission of the Federal Financial Report and Milestone reports in TrAMS as appropriate (FTA Circular 6100.1E and Circular 5010.1D). The grantees must comply with all applicable Federal statutes, regulations, executive orders, FTA circulars, and other Federal requirements detailed in the current Master Agreement in carrying out the project supported by the FTA research grant. The current Master Agreement can be found in the following FTA Grant Agreements Web page: https://www.transit.dot.gov/funding/grantee-resources/sample-fta-agreements/fta-grant-agreements. In addition, FTA will issue special conditions for certain MOD Sandbox projects to include specific data collection and reporting requirements related to compliance areas such as provision of equivalent service under the Americans with Disabilities Act (ADA).

For non-selected applicants, FTA may contact certain MOD Sandbox applicant(s) whose proposals were not selected for Sandbox funding, but considered meritorious to advance the transit industry's knowledge on MOD. FTA encourages all non-selected Sandbox applicants to notify FTA's MOD Program Manager, Christina Gikakis, at email address modsandbox@dot.gov regarding their intent to proceed without FTA MOD Sandbox program funding. FTA may enter into agreements or other arrangements or relationships with these non-selected Sandbox applicants to collaborate in the format of technical assistance, such as data collection and analysis. Such agreements will assist FTA's effort in building a MOD Community of Practice (CoP) to maximize learning and opportunities for collaboration for all.

In addition, FTA intends to continue the dialogue with industry stakeholders on how FTA can continue to support innovative practices and shared-ride, on-demand mobility services. This may be done through an upcoming online dialogue to seek public comment on the overall MOD Program as it relates to advancing public transportation through the provision of flexible mobility choices and innovative business models. FTA also intends to issue Frequently Asked Questions (FAQs), to further explain the eligibility of such services under current transit law and FTA's core programs, such as the Urbanized Area and Rural formula programs. FTA encourages your comments and questions, which can be submitted to TransitInnovations@dot.gov.

Carolyn Flowers,
Acting Administrator.

Table 1—2016 MOD Sandbox Program Project Selections
State | Recipient | Discretionary ID | Project title | FTA Allocation
AZ | Regional Transportation Authority of Pima County | D2017-MODD-001 | Adaptive Mobility with Reliability and Efficiency (AMORE)—Rita Ranch Area Pilot in Tucson | $669,158
AZ | Valley Metro Rail, Inc. | D2017-MODD-002 | Mobility Platform | 1,001,000
CA | City of Palo Alto | D2017-MODD-003; D2017-MODD-004 | Bay Area Fair Value Commuting Demonstration | 1,085,000
CA | Los Angeles County Metropolitan Transportation Authority (Metro) | D2017-MODD-005 | Los Angeles County and Puget Sound MOD Partnership | 1,350,000
CA | San Francisco Bay Area Rapid Transit District (BART) | D2017-MODD-006 | Integrated Carpool to Transit Access Program | 358,000
FL | Pinellas Suncoast Transit Authority | D2017-MODD-007 | Public-Private-Partnership for Paratransit Mobility on Demand Demonstration (P4-MOD) | 500,000
IL | Chicago Transit Authority (CTA) | D2017-MODD-008 | Integrated Fare Systems—From Transit Fare to Bike Share | 400,000
OR | Tri-County Metropolitan Transportation District of Oregon | D2017-MODD-009 | Open Trip Planner Share Use Mobility (OTP SUM): Open Trip Planner Integration of Transit with Shared-Use Mobility Real-Time and Data Enhancements | 678,000
TX | Dallas Area Rapid Transit | D2017-MODD-010 | MOD Sandbox—The First and Last Mile Solution | 1,204,000
VT | Vermont Agency of Transportation | D2017-MODD-011 | Vermont Statewide Transit Trip Planner—Fixed and Flex | 480,000
WA | Pierce County Public Transportation Benefit Area Corporation | D2017-MODD-012 | Limited Access Connections | 205,922

[FR Doc. 2016-27158 Filed 11-9-16; 8:45 am]

BILLING CODE 4910-57-P